DEPARTMENT OF THE INTERIOR

Bureau of Land Management, Interior

[LLNVB01000.L51100000.GN0000.LVEMF2108010.21X.MO: 4500159219]

Notice of Availability of Draft Environmental Impact Statement for Nevada Vanadium Company Gibellini Mine Project, Eureka County, Nevada

AGENCY: Bureau of Land Management, Interior.

ACTION: Notice of availability.

SUMMARY: In compliance with the National Environmental Policy Act of 1969, as amended (NEPA), and the Federal Land Policy and Management Act of 1976, as amended (FLPMA), the Bureau of Land Management (BLM) announces the availability of the Draft Environmental Impact Statement (EIS) for the proposed Nevada Vanadium Company (NVV) Gibellini Mine Project, in Eureka County, Nevada, and requests the public review and provide comments on the Draft EIS.

DATES: All comments must be received by September 6, 2022. The BLM will announce the date of a public meeting on the Draft EIS at least 15 days in advance of the meeting on the BLM National ePlanning website https://go.usa.gov/xf2GR. The public meeting will be held online.

ADDRESSES: The Draft EIS is available for review on the BLM ePlanning project website at https://go.usa.gov/xf2GR.

Written comments related to the proposed NVV Gibellini Mine Project, in Eureka County, Nevada, may be submitted by any of the following methods:

• ePlanning Website: https://go.usa.gov/xf2GR.

• Email: BLM_NV_BMDO_P&EC_NEPA@blm.gov.

• Mail: Gibellini Mine EIS c/o BLM Mount Lewis Field Office, 50 Bastian Road, Battle Mountain, NV 89820.

FOR FURTHER INFORMATION CONTACT: Scott Distel, Project Manager, telephone: (775) 635-4093; address: 50 Bastian Road, Battle Mountain, Nevada 89820; email: sdistel@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Purpose and Need for the Proposed Action

The BLM's purpose for the action is to respond to NVV's proposal as described in the proposed Plan of Operations and to analyze the environmental effects associated with the proponent's Proposed Action and alternatives to the Proposed Action. The BLM's need for the action is established by the BLM's responsibilities under FLPMA and the BLM Surface Management Regulations at 43 CFR part 3809 to respond to a proposed Plan of Operations and ensure that operations prevent unnecessary or undue degradation of public lands.

Proposed Action and Alternatives

Under the Proposed Action, NVV would construct and operate an open pit mine in the southern extent of the Fish Creek Range. Facilities associated with the Proposed Action include development of an open pit mine, rock disposal area, crushing facilities and stockpile, heap leach pad, process facility, process and make-up water ponds, borrow areas, mine and access roads, water and power supply lines, and ancillary facilities. The estimated Project life consists of one and a half years of construction, seven years of operation, four years of active reclamation and closure, and up to 30 years of post-closure monitoring. In addition, NVV would conduct exploration activities as part of the Proposed Action. The Project Area includes a total of 6,456 acres of BLM-administered land, of which approximately 806 acres of surface disturbance would occur due to Project-related activities.

The South Access Road Alternative would include the same mine components as described for the Proposed Action, except the access road would be constructed in a different location. This alternative access road would be approximately seven miles long and extend from County Road M-103 (Duckwater Road) to the Project Area. The access road would be constructed parallel to the power line corridor. Overall, this alternative would result in approximately 38 additional acres of surface disturbance relative to the Proposed Action.

The Renewable Energy Alternative would consist of the same overall activities as described for the Proposed Action, except this alternative would include supporting the mine operations with a combination of renewable energy and a utility interconnection with future large-scale battery storage. This alternative would result in approximately 33 additional acres relative to the Proposed Action.

Under the No Action Alternative, the Plan of Operations would not be authorized by the BLM, and the activities described in the Proposed Action would not occur. Mineral resources would remain undeveloped, and the construction and operation of the proposed mine and associated facilities would not occur.

Schedule for the Decision-Making Process

The final EIS is tentatively scheduled for Fall of 2022 with a Record of Decision in early 2023.

Draft EIS Review Process

On July 14, 2020, a notice of intent to prepare an EIS was published in the Federal Register, announcing the beginning of the public scoping process. Virtual public meetings were held on September 2 and 3, 2020. During the scoping period, 12 comment documents were received containing a total of 216 individual comments. The comments received, in order of decreasing volume, were associated with wildlife and special status species, laws and regulations, water resources, air quality, and uranium management.

This notice of availability initiates the draft EIS review process. A public meeting to discuss the draft EIS will be held via virtual platform. An announcement regarding when and how to access the virtual meeting will be posted on the BLM's project website.

Public review of the draft EIS provides an opportunity for meaningful collaborative public engagement and allows the public to provide substantive comments, such as identification of factual errors, data gaps, relevant methods, or scientific studies. The BLM will respond to substantive comments by making appropriate revisions to the EIS or explaining why a comment did not warrant a change.

The BLM has and will continue to use and coordinate the draft EIS review process to help fulfill the public involvement requirements under the National Historic Preservation Act (54 U.S.C. 306108) as provided in 36 CFR 800.2(d)(3). The information about historic and cultural resources within the area potentially affected by the proposed action will assist the BLM in identifying and evaluating impacts to such resources.

The BLM has and will continue to conduct government-to-government consultation with Indian Tribes in accordance with Executive Order 13175 and other policies. Agencies will give due consideration to Tribal concerns, including impacts on Indian trust assets and treaty rights and potential impacts to cultural resources.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10)

Jon Sherve,
Field Manager, Mount Lewis Field Office, Battle Mountain District.

[FR Doc. 2022-15275 Filed 7-21-22; 8:45 am]

BILLING CODE 4310-HC-P